DEPARTMENT OF COMMERCE

National Oceanic and Atmospheric Administration

RIN 0648-XD852

Endangered and Threatened Species; Take of Anadromous Fish

AGENCY: National Marine Fisheries Service (NMFS), National Oceanic and Atmospheric Administration (NOAA), Commerce.

ACTION: Notice; extension of public comment period; request for comments.

SUMMARY: On March 26, 2015, the National Marine Fisheries Service (NMFS) announced the availability for public review of a proposed evaluation of three Hatchery and Genetic Management Plans (HGMPs) submitted by the Washington Department of Fish and Wildlife (WDFW), with the Jamestown S'Klallam Tribe, the Lummi Nation, the Nooksack Tribe, the Stillaguamish Tribes, and the Tulalip Tribes pursuant to the protective regulations promulgated for Pacific salmon and steelhead under the Endangered Species Act (ESA). The HGMPs specify the propagation of early-returning (“early”) winter steelhead in the Dungeness, Nooksack, and Stillaguamish River watersheds of Washington State. The availability of a draft environmental assessment (EA), evaluating the anticipated effects of NMFS' proposed determination on those HGMPs pursuant to the National Environmental Policy Act (NEPA), was included in the announcement. The announcement opened a 30-day public comment period. Due to an issue with one of the email addresses provided for receipt of comments, comments submitted to EWSteelheadHatcheries.wcr@noaa.gov prior to April 14, 2015, may not have been received. Therefore, NMFS requests that any such comments be re-submitted. NMFS is extending the comment period to May 4, 2015, to facilitate this re-submittal.

DATES: Comment period of the notice published at 80 FR 15984, March 26, 2015, is extended. Comments must be received no later than 5 p.m. Pacific time on May 4, 2015.

ADDRESSES: Written comments on the proposed evaluation and draft EA should be addressed to the NMFS Sustainable Fisheries Division, 510 Desmond Dr., Suite 103, Lacey, WA 98503, or faxed to (360) 753-9517. Comments may be submitted by email. The mailbox address for providing email comments is: EWSteelheadHatcheries.wcr@noaa.gov. Include in the subject line of the email comment the following identifier: Comments on Early Winter Steelhead Hatchery Programs. When commenting on the draft environmental assessment, please refer to the specific page number and line number of the subject of your comment. The Secretary's proposed evaluation of effects on listed steelhead and salmon and the draft EA are also available on the Internet at www.westcoast.fisheries.noaa.gov. Comments received will also be available for public inspection, by appointment, during normal business hours by calling (503) 230-5418.

FOR FURTHER INFORMATION CONTACT: Tim Tynan at (360) 753-9579 or email: tim.tynan@noaa.gov.

SUPPLEMENTARY INFORMATION:

Species Covered in This Notice

ESA-Listed Species Covered in This Notice

Steelhead (Oncorhynchus mykiss): threatened, naturally produced and artificially propagated Puget Sound.

Chinook salmon (O. tshawytscha): threatened, naturally produced and artificially propagated Puget Sound.

Chum salmon (O. keta): threatened, naturally produced and artificially propagated Hood Canal summer-run.

Bull trout (Salvelinus confluentus): threatened Puget Sound/Washington Coast.

The WDFW, with the Jamestown S'Klallam Tribe, the Lummi Nation, the Nooksack Tribe, the Stillaguamish Tribes, and the Tulalip Tribes as the U.S. v. Washington salmon resource co-managers, has submitted to NMFS plans for three jointly operated hatchery programs in the Dungeness, Nooksack, and Stillaguamish River basins. The plans were submitted in July 2014, pursuant to limit 6 of the 4(d) Rule for the listed Puget Sound Steelhead distinct population segment (DPS), and the listed Puget Sound Chinook Salmon and listed Hood Canal Summer Chum Salmon evolutionarily significant units (ESU). The hatchery programs would release early winter steelhead that are not included as part of the ESA-listed Puget Sound Steelhead Distinct Population Segment into the Dungeness River, Nooksack River, and Stillaguamish River watersheds. All three programs would release fish that are not native to the watersheds.

Consideration of these three HGMPs, particularly pursuant to NEPA, is not being conducted as a substitute for the withdrawn Puget Sound Draft Environmental Impact Statement (80 FR 15986, March 26, 2015).

As specified in the July 10, 2000, ESA 4(d) rule for salmon and steelhead (65 FR 42422) and updated June 28, 2005 (70 FR 37160), NMFS may approve an HGMP if it meets criteria set forth in 50 CFR 223.203(b)(5)(i)(A) through (K). Prior to final approval of an HGMP, NMFS must publish notification announcing its availability for public review and comment.

Authority

Under section 4 of the ESA, the Secretary of Commerce is required to adopt such regulations as she deems necessary and advisable for the conservation of species listed as threatened. The ESA salmon and steelhead 4(d) rule (65 FR 42422, July 10, 2000, as updated in 70 FR 37160, June 28, 2005) specifies categories of activities that contribute to the conservation of listed salmonids and sets out the criteria for such activities. Limit 6 of the updated 4(d) rule (50 CFR 223.203(b)(6)) further provides that the prohibitions of paragraph (a) of the updated 4(d) rule (50 CFR 223.203(a)) do not apply to activities associated with a joint state/tribal artificial propagation plan provided that the joint plan has been determined by NMFS to be in accordance with the salmon and steelhead 4(d) rule (65 FR 42422, July 10, 2000, as updated in 70 FR 37160, June 28, 2005).

We also issue this notice in accordance with the requirements of NEPA as amended (42 U.S.C 4371 et seq.) and its implementing regulations (40 CFR part 1500 and 1506.6), and other appropriate Federal laws and regulations, and policies and procedures of NMFS for compliance with those regulations.

Dated: April 20, 2015.
Angela Somma,
Chief, Endangered Species Division, Office of Protected Resources, National Marine Fisheries Service.

[FR Doc. 2015-09499 Filed 4-23-15; 8:45 am]

BILLING CODE 3510-22-P